DEPARTMENT OF HEALTH AND HUMAN SERVICES

National Institutes of Health

Prospective Grant of Exclusive License: Uteroglobin in Treatment of IgA Mediated Autoimmune Disorders

AGENCY: National Institutes of Health, Public Health Services, DHHS.

ACTION: Notice.

SUMMARY: This is notice, in accordance with 35 U.S.C. 209(c)(1) and 37 CFR 404.7(a)(1)(i), that the National Institutes of Health (NIH), Department of Health and Human Services, is contemplating the grant of an exclusive license worldwide to practice the invention embodied in: U.S. Patent Application Serial No. 60/130,434, filed April 21, 1999 entitled, “Uteroglobin in Treatment of IgA Mediated Autoimmune Disorders” to Claragen, Inc., having a place of business in Silver Spring, MD. The patent rights in this invention have been assigned to the United States of America.

DATE: Only written comments and/or application for a license which are received by the NIH Office of Technology Transfer on or before May 18, 2000.

ADDRESS: Requests for a copy of the patent applications, inquiries, comments and other materials relating to the contemplated license should be directed to: Dennis H. Penn, Pharm.D., Technology Licensing Specialist, Office of Technology Transfer, National Institutes of Health, 6011 Executive Boulevard, Suite 325, Rockville, MD 20852-3804; Telephone: (301) 496-7056, ext. 211; Facsimile: (301) 402-0220.

SUPPLEMENTARY INFORMATION: Uteroglobin plays a significant role in human renal disease through its effect on the deposition of IgA. This invention relates to the use of uteroglobin and its role in the diagnosis and treatment of IgA nephropathy.

The prospective exclusive license will be royalty-bearing and will comply with the terms and conditions of 35 U.S.C. 209 and 37 CFR 404.7. The prospective exclusive license may be granted unless, within 90 days from the date of this published Notice, NIH received written evidence and argument that establishes that the grant of the license would not be consistent with the requirements of 35 U.S.C. 209 and 37 CFR 404.7.

The field of use may be limited to the use of the invention for the development of therapeutic and diagnostic applications relating to IgA nephropathy.

Properly filed competing applications for a license filed in response to this notice will be treated as objections to the contemplated license. Comments and objections submitted in response to this notice will not be made available for public inspection, and, to the extent permitted by law, will not be released under the Freedom of Information Act, 5 U.S.C. 552.

Dated: February 14, 2000.
Jack Spiegel,
Director, Division of Technology Development and Transfer, Office of Technology Transfer.

[FR Doc. 00-4009 Filed 2-17-00; 8:45 am]

BILLING CODE 4140-01-M